DEPARTMENT OF COMMERCE

International Trade Administration

[A-570-943]

Certain Oil Country Tubular Goods From the People's Republic of China: Amended Final Determination of Sales at Less Than Fair Value and Antidumping Duty Order

AGENCY: Import Administration, International Trade Administration, Department of Commerce.

DATES: Effective Date: May 21, 2010.

SUMMARY: Based on affirmative final determinations by the Department of Commerce (the “Department”) and the International Trade Commission (“ITC”), the Department is issuing an antidumping duty order on certain oil country tubular goods (“OCTG”) from the People's Republic of China (“PRC”). On May 14, 2010 the ITC notified the Department of its affirmative determination of threat of material injury to a U.S. industry, and its negative determination of critical circumstances. See Certain Oil Country Tubular Goods from China (Investigation No. 731-TA-1159 (Final), USITC Publication 4152 (May 2010)). In addition, the Department is amending its final determination as a result of ministerial errors.

FOR FURTHER INFORMATION CONTACT: Paul Stolz or Eugene Degnan, AD/CVD Operations, Office 8, Import Administration, International Trade Administration, U.S. Department of Commerce, 14th Street and Constitution Avenue, NW., Washington, DC 20230; telephone: (202) 482-4474 or (202) 482-0414, respectively.

SUPPLEMENTARY INFORMATION: In accordance with sections 735(d) and 777(i)(1) of the Tariff Act of 1930, as amended, (“Act”), the Department published the final determination of sales at less than fair value in the antidumping investigation of OCTG from the PRC. See Certain Oil Country Tubular Goods from the People's Republic of China: Final Determination of Sales at Less Than Fair Value, Affirmative Final Determination of Critical Circumstances and Final Determination of Targeted Dumping, 75 FR 20335 (April 19, 2010) (“Final Determination”).

Amendment to the Final Determination

On April 19, 2010, the Department published its affirmative final determination in this proceeding. See Final Determination. On April 21, 2010, Tianjin Pipe (Group) Corporation (“TPCO”), a mandatory respondent, and Petitioners ¹ submitted ministerial error allegations and requested, pursuant to 19 CFR 351.224, that the Department correct the alleged ministerial errors in the calculation of TPCO's dumping margin. Petitioners submitted rebuttal comments on April 26, 2010. TPCO submitted rebuttal comments on April 23, 2010 and on April 27, 2010.² No other interested party submitted ministerial error allegations or rebuttal comments.

¹ United States Steel Corporation, Maverick Tube Corporation, TMK IPSCO, V&M Star L.P., Wheatland Tube Corp., Evraz Rocky Mountain Steel, and United Steel, Paper and Forestry, Rubber, Manufacturing, Energy, Allied Industrial and Service Workers International Union, AFL-CIO-CLC are the petitioners (collectively “Petitioners”) in this investigation.

² This second set of rebuttal comments was submitted by TPCO in response to Petitioners' rebuttal comments submitted on April 23, 2010.

After analyzing all interested party comments and rebuttals, we have determined, in accordance with section 735(e) of the Act and 19 CFR 351.224(e), that we made ministerial errors in our calculations for the Final Determination with respect to TPCO. For a detailed discussion of these ministerial errors, as well as the Department's analysis of the errors and allegations, see the Memorandum to the File, “Ministerial Error Memorandum, Certain Oil Country Tubular Goods from the People's Republic of China, Final Determination of Sales at Less Than Fair Value,” dated May 18, 2010.

Additionally, in the Final Determination, we determined that numerous companies qualified for a separate rate. See Final Determination. Because the only other mandatory respondent in this investigation, Jiangsu Changbao Steel Tube Co., Ltd. and Jiangsu Changbao Precision Tube Co., Ltd. (collectively “Changbao”), was determined to be part of the PRC-wide entity in the Final Determination, the cash deposit rate for these separate-rate companies is based on the calculated rate of the sole remaining mandatory respondent: TPCO. See id.; see also Final Determination and accompanying “Issues and Decision Memorandum for the Antidumping Duty Investigation of Certain Oil Country Tubular Goods from the People's Republic of China”, at Comment 30. Therefore, because the margin for TPCO has changed since the Final Determination, the separate rate has changed as well. It is now 32.07 percent. See Memorandum to the File, “Investigation of Certain Oil Country Tubular Goods from the People's Republic of China: Amended Final Determination Analysis Memorandum, Tianjin Pipe (Group) Corporation,” dated May 18, 2010. The amended weighted-average dumping margins are as follows:

Exporter | Producer | Weighted-average margin percent
Tianjin Pipe International Economic and Trading Corporation | Tianjin Pipe (Group) Corporation | 32.07
Angang Group Hong Kong Co., Ltd | Angang Steel Co. Ltd | 32.07
Angang Steel Co., Ltd., and Angang Group International Trade Corporation | Angang Steel Co. Ltd | 32.07
Anhui Tianda Oil Pipe Co., Ltd | Anhui Tianda Oil Pipe Co., Ltd | 32.07
Anshan Zhongyou Tipo Pipe & Tubing Co., Ltd | Anshan Zhongyou Tipo Pipe & Tubing Co., Ltd | 32.07
Baotou Steel International Economic and Trading Co., Ltd | Seamless Tube Mill of Inner Mongolia Baotou Steel Union Co., Ltd.³ | 32.07
Benxi Northern Steel Pipes Co., Ltd | Benxi Northern Steel Pipes Co., Ltd | 32.07
Chengdu Wanghui Petroleum Pipe Co. Ltd | Chengdu Wanghui Petroleum Pipe Co. Ltd | 32.07
Dalipal Pipe Company | Dalipal Pipe Company | 32.07
Faray Petroleum Steel Pipe Co. Ltd | Faray Petroleum Steel Pipe Co. Ltd | 32.07
Freet Petroleum Equipment Co., Ltd. of Shengli Oil Field, The Thermal Recovery Equipment, Zibo Branch | Freet Petroleum Equipment Co., Ltd. of Shengli Oil Field, The Thermal Recovery Equipment, Zibo Branch | 32.07
Hengyang Steel Tube Group International Trading, Inc | Hengyang Valin MPM Tube Co., Ltd.; Hengyang Valin Steel Tube Co., Ltd | 32.07
Huludao Steel Pipe Industrial Co., Ltd./Huludao City Steel Pipe Industrial Co., Ltd | Huludao Steel Pipe Industrial Co., Ltd./Huludao City Steel Pipe Industrial Co., Ltd | 32.07
Jiangsu Chengde Steel Tube Share Co., Ltd | Jiangsu Chengde Steel Tube Share Co., Ltd | 32.07
Jiangyin City Changjiang Steel Pipe Co., Ltd | Jiangyin City Changjiang Steel Pipe Co., Ltd | 32.07
Pangang Group Beihai Steel Pipe Corporation | Pangang Group Beihai Steel Pipe Corporation | 32.07
Pangang Group Chengdu Iron & Steel | Pangang Group Chengdu Iron & Steel | 32.07
Qingdao Bonded Logistics Park Products International Trading Co., Ltd | Shengli Oilfield Highland Petroleum Equipment Co., Ltd.; | 32.07
| Shandong Continental Petroleum Equipment Co., Ltd.; | 32.07
| Aofei Tele Dongying Import & Export Co., Ltd.;
| Highgrade Tubular Manufacturing (Tianjin) Co., Ltd.;
| Cangzhou City Baohai Petroleum Material Co., Ltd.
Qiqihaer Haoying Iron and Steel Co., Ltd. of Northeast Special Steel Group | Qiqihaer Haoying Iron and Steel Co., Ltd. of Northeast Special Steel Group | 32.07
Shandong Dongbao Steel Pipe Co., Ltd | Shandong Dongbao Steel Pipe Co., Ltd | 32.07
ShanDong HuaBao Steel Pipe Co., Ltd | ShanDong HuaBao Steel Pipe Co., Ltd | 32.07
Shandong Molong Petroleum Machinery Co., Ltd | Shandong Molong Petroleum Machinery Co., Ltd | 32.07
Shanghai Metals & Minerals Import & Export Corp./Shanghai Minmetals Materials & Products Corp | Jiangsu Changbao Steel Pipe Co., Ltd.; | 32.07
| Huludao Steel Pipe Industrial Co., Ltd.;
| Northeast Special Steel Group Qiqihaer Haoying Steel and Iron Co., Ltd.;
| Beijing Youlu Co., Ltd.
Shanghai Zhongyou Tipo Steel Pipe Co., Ltd | Shanghai Zhongyou Tipo Steel Pipe Co., Ltd | 32.07
Shengli Oil Field Freet Petroleum Equipment Co., Ltd | Freet Petroleum Equipment Co., Ltd. of Shengli Oil Field, The Thermal Recovery Equipment, Zibo Branch; | 32.07
| Faray Petroleum Steel Pipe Co., Ltd.; Shengli Oil Field Freet Petroleum Steel Pipe Co., Ltd.
Shengli Oil Field Freet Petroleum Steel Pipe Co., Ltd | Freet Petroleum Equipment Co., Ltd. of Shengli Oil Field, The Thermal Recovery Equipment, Zibo Branch; | 32.07
| Anhui Tianda Oil Pipe Co., Ltd;
| Wuxi Fastube Dingyuan Precision Steel Pipe Co., Ltd.
Shengli Oilfield Highland Petroleum Equipment Co., Ltd | Tianjin Pipe Group Corp.; | 32.07
| Goods & Materials Supply Dept. of Shengli Oilfield SinoPEC;
| Dagang Oilfield Group New Century Machinery Co. Ltd.;
| Tianjin Seamless Steel Pipe Plant; Baoshan Iron & Steel Co. Ltd.
Shengli Oilfield Shengji Petroleum Equipment Co., Ltd | Shengli Oilfield Shengji Petroleum Equipment Co., Ltd | 32.07
Tianjin Xingyuda Import and Export Co., Ltd. & Hong Kong Gallant Group Limited | Tianjin Lifengyuanda Steel Group Co., Ltd | 32.07
Tianjin Seamless Steel Pipe Plant | Tianjin Seamless Steel Pipe Plant | 32.07
Tianjin Tiangang Special Petroleum Pipe Manufacturer Co., Ltd | Tianjin Tiangang Special Petroleum Pipe Manufacturer Co., Ltd | 32.07
Wuxi Baoda Petroleum Special Pipe Manufacturing Co., Ltd | Wuxi Baoda Petroleum Special Pipe Manufacturing Co., Ltd | 32.07
Wuxi Seamless Oil Pipe Co., Ltd | Wuxi Seamless Oil Pipe Co., Ltd | 32.07
Wuxi Sp. Steel Tube Manufacturing Co., Ltd | Wuxi Precese Special Steel Co., Ltd | 32.07
Wuxi Zhenda Special Steel Tube Manufacturing Co., Ltd | Huai'an Zhenda Steel Tube Manufacturing Co., Ltd | 32.07
Xigang Seamless Steel Tube Co., Ltd | Xigang Seamless Steel Tube Co., Ltd.; | 32.07
| Wuxi Seamless Special Pipe Co., Ltd.
Yangzhou Lontrin Steel Tube Co., Ltd | Yangzhou Lontrin Steel Tube Co., Ltd | 32.07
Zhejiang Jianli Co., Ltd. & Zhejiang Jianli Steel Tube Co., Ltd | Zhejiang Jianli Co., Ltd.; | 32.07
| Zhejiang Jianli Steel Tube Co., Ltd.
PRC-wide Entity * |  | 99.14
* Includes: Jiangsu Changbao Steel Tube Co., Ltd. and Jiangsu Changbao Precision Tube Co., Ltd. and Shengli Oil Field Freet Import & Export Trade Co., Ltd.

Antidumping Duty Order

On May 14, 2010, in accordance with section 735(d) of the Act, the ITC notified the Department of its final determination in this investigation. In its determination, the ITC found a threat of material injury. According to section 736(b)(2) of the Act, duties shall be assessed on subject merchandise entered, or withdrawn from warehouse, for consumption on or after the date of publication of the ITC's notice of final determination if that determination is based on the threat of material injury and is not accompanied by a finding that injury would have resulted without the imposition of suspension of liquidation of entries since the Department's preliminary determination. In addition, section 736(b)(2) of the Act requires U.S. Customs and Border Protection (“CBP”) to refund any cash deposits or bonds of estimated antidumping duties posted since the preliminary antidumping determination if the ITC's final determination is threat-based. Therefore, in accordance with section 733(d) of the Act and our practice, we will instruct CBP to terminate the suspension of liquidation and to liquidate, without regard to antidumping duties, unliquidated entries of OCTG from the PRC entered, or withdrawn from warehouse, for consumption on or after November 17, 2009, and before the date of publication of the ITC's final determination in the Federal Register. Suspension of liquidation will continue after this date. See the Suspension of Liquidation section below. In addition, with regard to the ITC's negative critical circumstances determination, and regarding to exports from the PRC-wide entity, we will also instruct CBP to lift suspension, release any bond or other security, and refund any cash deposit made to secure the payment of antidumping duties with respect to entries of the merchandise entered, or withdrawn from warehouse, for consumption on or after August 19, 2009 ⁴ (i.e., 90 days prior to the date of publication of the preliminary determination in the Federal Register), through November 16, 2009.

³ In Certain Oil Country Tubular Goods From the People's Republic of China: Notice of Preliminary Determination of Sales at Less Than Fair Value, Affirmative Preliminary Determination of Critical Circumstances and Postponement of Final Determination, 74 FR 59117 (November 17, 2009) and Certain Oil Country Tubular Goods From the People's Republic of China: Notice of Amended Preliminary Determination of Sales at Less Than Fair Value, 74 FR 69065 (December 30, 2009), we inadvertently identified the producer as Baotou Steel International Economic and Trading Co., Ltd.

⁴ This date was incorrectly identified as “April 19, 2009” in the Final Determination.

Scope of the Order

The scope of this order consists of certain OCTG, which are hollow steel products of circular cross-section, including oil well casing and tubing, of iron (other than cast iron) or steel (both carbon and alloy), whether seamless or welded, regardless of end finish (e.g., whether or not plain end, threaded, or threaded and coupled) whether or not conforming to American Petroleum Institute (“API”) or non-API specifications, whether finished (including limited service OCTG products) or unfinished (including green tubes and limited service OCTG products), whether or not thread protectors are attached. The scope of the order also covers OCTG coupling stock. Excluded from the scope of the order are casing or tubing containing 10.5 percent or more by weight of chromium; drill pipe; unattached couplings; and unattached thread protectors.

The merchandise covered by the order is currently classified in the Harmonized Tariff Schedule of the United States (“HTSUS”) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The OCTG coupling stock covered by the order may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, and 7304.59.80.80.

The HTSUS subheadings are provided for convenience and customs purposes only; the written description of the scope of the order is dispositive.

Continuation of Suspension of Liquidation

In accordance with section 735(c)(1)(B) of the Act, we will instruct CBP to suspend liquidation on all entries of subject merchandise from the PRC. We will also instruct CBP to require cash deposits equal to the estimated amount by which the normal value exceeds the U.S. price as indicated in the chart above. These instructions suspending liquidation will remain in effect until further notice.

Additionally, in the Final Determination, the Department noted that in Certain Oil Country Tubular Goods From the People's Republic of China: Amended Final Affirmative Countervailing Duty Determination and Countervailing Duty Order, 75 FR 3203 (January 20, 2010) (“CVD Final”) the Department determined that the products under investigation, exported and produced by TPCO, benefitted from an export subsidy. Therefore, we will instruct CBP to require an antidumping cash deposit or posting of a bond equal to the weighted-average amount by which the normal value exceeds the U.S. price for TPCO, as indicated above, minus the amount determined to constitute an export subsidy.

Further, for the two separate-rate companies in this investigation that also participated as mandatory respondents in the CVD investigation (i.e., Wuxi Seamless Oil Pipe Co., Ltd., and Zhejiang Jianli Co., Ltd. & Zhejiang Jianli Steel Tube Co., Ltd.), because it was determined in the CVD Final that these companies did not benefit from any export subsidy, we will not make an adjustment to the antidumping duty rate of these companies for purposes of cash deposits.

For the remaining separate-rate companies, we will instruct CBP to adjust the dumping margin by the amount of export subsidies included in the All Others rate from the CVD Final.

Accordingly, effective on the date of publication of the ITC's final affirmative injury determination, CBP will require, at the same time as importers would normally deposit estimated duties on this subject merchandise, a cash deposit equal to the estimated weighted-average antidumping duty margins as discussed above. See section 735(c)(3) of the Act. The “PRC-wide” rate applies to all exporters of subject merchandise not specifically listed.

In accordance with section 736 of the Act, the Department will also direct CBP to assess antidumping duties on all unliquidated entries of OCTG from the PRC entered, or withdrawn from warehouse, for consumption on or after the date on which the ITC published its notice of final determination of threat of material injury in the Federal Register.

This notice constitutes the antidumping duty order with respect to OCTG from the PRC pursuant to section 736(a) of the Act. Interested parties may contact the Department's Central Records Unit, Room 1117 of the main Commerce building, for copies of an updated list of antidumping duty orders currently in effect.

This order is published in accordance with section 736(a) of the Act and 19 CFR 351.211.

Dated: May 19, 2010.
Ronald K. Lorentzen,
Deputy Assistant Secretary for Import Administration.

[FR Doc. 2010-12370 Filed 5-20-10; 8:45 am]

BILLING CODE 3510-DS-P